DEPARTMENT OF HEALTH AND HUMAN SERVICES

Agency Information Collection Activities: Proposed Collection; 30-Day Public Comment Request; Communications Testing for Comprehensive Communication Campaign for HITECH ACT

AGENCY: Office of the National Coordinator for Health Information Technology, Department of Health and Human Services.

ACTION: 30-Day notice of submission of information collection approval from the Office of Management and Budget and request for comments.

SUMMARY: In compliance with section 3506(c)(2)(A) of the Paperwork Reduction Act of 1995, the Office of the National Coordinator for Health Information Technology (ONC), Department of Health and Human Services, announces plans to submit an Information Collection Request (ICR), described below, to the Office of Management and Budget (OMB). The ICR is for extending the use of the approved information collection assigned OMB control number 0955-0005, which expires on July 31, 2014. Prior to submitting that ICR to OMB, ONC seeks comments from the public regarding the burden estimate, below, or any other aspect of the ICR.

DATES: Comments must be submitted by August 8, 2014.

ADDRESSES: Written comments may be submitted to Information.CollectionClearance@hhs.gov or by calling (202) 690-6162.

FOR FURTHER INFORMATION CONTACT: To request additional information, please contact Penelope Hughes at Penelope.Hughes@hhs.gov or (202) 205.8658.

SUPPLEMENTARY INFORMATION:

Title: “Communications Testing for Comprehensive Communication Campaign for HITECH ACT.”

Abstract: The Office of the National Coordinator for Health Information Technology (ONC) serves as the Health and Human Services (HHS) Secretary's principal advisor on the development, application, and use of health information technology (health IT). ONC is requesting an approval by OMB on an extension, to a previously approved generic clearance titled Communications Testing for Comprehensive Communication Campaign for HITECH ACT, 0955-0005, for collecting information through a variety of research methods for the purpose of developing and testing communications involving health information technology and health information privacy. ONC responsibilities include promoting the development of a nationwide health IT infrastructure that allows for electronic use and exchange of information and fostering the public understanding of health information technology, including educating the public about health information privacy. In order to fulfill these responsibilities, information from the public at large is necessary to determine what education is needed and what types of communication techniques will be most effective. Due to the rapidly evolving nature of health information technology, an extension of the original generic data collection is being requested to ensure that these education and communication efforts keep pace with technological advancements and the changing health information technology ecosystem. This information will be used to assess the need for communications on specific topics and to assist in the development and modification of communication messages. The data will help in tailoring print, broadcast, and electronic media communications and other materials for them to have powerful and desired impacts on target audiences. The data will not be used for the purposes of making policy or regulatory decisions.

The agency received no comments in response to the 60-day notice for the extension request published in the Federal Register of April 3, 2014 (79 FR 18690).

Below we provide the Office of the National Coordinator for Health Information Technology's projected average estimates for the next three years: ¹

¹ The 60-day notice included the following estimate of the aggregate burden hours for this generic clearance federal-wide:

Average Expected Annual Number of activities: 6.

Average Number of Respondents per Activity: 1,900.

Annual Responses: 11,400.

Frequency of Response: Once per request.

Average Minutes per Response: 12.

Burden Hours: 2,300.

Current Actions: New collection of information.

Type of Review: Extension.

Affected Public: Likely respondents include consumers as well as physicians, nurses and other health care providers.

Average Expected Annual Number of Activities: 6.

Respondents: 1,900.

Annual Responses: 11,400.

Frequency of Response: Once per request.

Average Minutes per Response: 15.

Burden Hours: 2850.

An agency may not conduct or sponsor, and a person is not required to respond to, a collection of information unless it displays a currently valid Office of Management and Budget control number.

Darius Taylor,
Information Collections Clearance Officer.

[FR Doc. 2014-16022 Filed 7-8-14; 8:45 am]

BILLING CODE 4150-45-P